DEPARTMENT OF COMMERCE

National Oceanic and Atmospheric Administration

RIN 0648-XC239

Marine Mammals; File No. 17355

AGENCY: National Marine Fisheries Service (NMFS), National Oceanic and Atmospheric Administration (NOAA), Commerce.

ACTION: Notice; receipt of application.

SUMMARY: Notice is hereby given that the National Marine Fisheries Service's Northeast Science Center (NEFSC), 166 Water Street, Woods Hole, Massachusetts 02543 [Responsible Party: William Karp; Principal Investigator: Peter Corkeron], has applied in due form for a permit to conduct research on marine mammals and sea turtles.

DATES: Written, telefaxed, or email comments must be received on or before October 22, 2012.

ADDRESSES: The application and related documents are available for review by selecting “Records Open for Public Comment” from the Features box on the Applications and Permits for Protected Species (APPS) home page, https://apps.nmfs.noaa.gov, and then selecting File No. 17355 from the list of available applications.

These documents are also available upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Joselyd Garcia-Reyes or Kristy Beard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The NEFSC is requesting a five-year permit to conduct scientific research on 38 species of cetaceans, four species of pinnipeds, and five species of sea turtles in the US EEZ from Florida to Maine and Canadian waters in the Bay of Fundy and Scotian Shelf. The research is designed to meet the NEFSC's mandates under the MMPA and ESA and primarily focuses on stock assessment. Specific objectives are to determine the abundance, distribution, movement patterns, dive behavior, demographic parameters, trends in recruitment, and stock structure of marine mammals in U.S. waters of the western North Atlantic. Twelve of the 47 species to be targeted for research are listed as threatened or endangered: blue whale (Balaenoptera musculus), fin whale (B. physalus), humpback whale (Megaptera novaeangliae), North Atlantic right whale (Eubalaena glacialis), sei whale (B. borealis), sperm whale (Physeter macrocephalus), bowhead whale (Balaena mysticetus), green sea turtle (Chelonia mydas), hawksbill sea turtle (Eretmochelys imbricata), loggerhead sea turtle (Caretta caretta), Kemp's ridley sea turtle (Lepidochelys kempii), and leatherback sea turtle (Dermochelys coriacea). See the application for specific take numbers by location and species/stock. Types of take would include harassment by survey approach during aerial and vessel-based surveys, passive acoustic recording, behavioral observations, photo-identification, suction-cup tagging, and biopsy sampling. Research platforms would include large ships, small vessels, and aircrafts. Import and export of marine mammal parts from the U.S. and other countries is requested for research purposes. The permit would be valid for a period of five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 14, 2012.
Tammy C. Adams,
Acting Chief, Permits and Conservation Division, Office of Protected Resources, National Marine Fisheries Service.

[FR Doc. 2012-23255 Filed 9-19-12; 8:45 am]

BILLING CODE 3510-22-P